DEPARTMENT OF THE INTERIOR

Bureau of Indian Affairs

[256A2100DD/AAKC001030/A0A501010.000000]

Notice of Documented Petition for Federal Acknowledgment as an American Indian Tribe

AGENCY: Bureau of Indian Affairs, Interior.

ACTION: Notice.

SUMMARY: The Department of the Interior (Department) gives notice that the group known as the Grand River Bands of Ottawa Indians, a petitioner for Federal acknowledgment as an American Indian Tribe, has chosen to complete the petitioning process under the current version of the acknowledgment regulations (as revised July 31, 2015). The Grand River Bands of Ottawa Indians had been proceeding under the previous version of the regulations (as they existed prior to July 31, 2015). The Department seeks comment and evidence from the public on the petition.

DATES: Comments and evidence must be postmarked by September 3, 2025.

ADDRESSES: Copies of the narrative portion of the documented petition, as submitted by the petitioner (with any redactions appropriate under 25 CFR 83.21(b)), and other information are available at the Office of Federal Acknowledgement's (OFA) website: www.bia.gov/as-ia/ofa. Submit any comments or evidence to: Department of the Interior, Office of the Assistant Secretary—Indian Affairs, Attention: Office of Federal Acknowledgment, Mail Stop 4071 MIB, 1849 C Street NW, Washington, DC 20240, or by email to: Ofa_Info@bia.gov.

FOR FURTHER INFORMATION CONTACT: Ms. Nikki Bass, OFA Director, Office of the Assistant Secretary—Indian Affairs, Department of the Interior, by phone: (202) 513-7650; or by email: Ofa_Info@bia.gov.

SUPPLEMENTARY INFORMATION: The Grand River Bands of Ottawa Indians submitted a documented petition on December 8, 2000, for evaluation under the previous version of the acknowledgment regulations (as they existed prior to July 31, 2015). On July 1, 2015, the Department revised 25 CFR part 83 (80 FR 37862), and the current regulations became final and effective on July 31, 2015. Pursuant to 25 CFR 83.47(b), Grand River Bands of Ottawa Indians has chosen to complete the petitioning process under the current regulations.

A key goal of the 2015 revisions was to improve transparency through increased notice of petitions and providing improved public access to petitions. Today, the Department informs the public that the petition submitted by Grand River Bands of Ottawa Indians, which has not yet received a final agency decision, will be evaluated pursuant to the standards and processes set forth in the current regulations. Portions of the petition are publicly available on the website identified above for easy access, and OFA seeks public comment on the petition.

The contact information for the petitioner is Ronald F. Yob, P.O. Box 2937, Grand Rapids, Michigan 49501.

Also, OFA publishes on its website the following:

i. The narrative portion of the documented petition, as submitted by the petitioner (with any redactions appropriate under 25 CFR 83.21(b));

ii. The name, location, and mailing address of the petitioner and other information to identify the entity;

iii. The date of receipt;

iv. The opportunity for individuals and entities to submit comments and evidence supporting or opposing the petitioner's request for acknowledgment within 120 days of the date of the website posting; and

v. The opportunity for individuals and entities to request to be kept informed of general actions regarding a specific petitioner.

Authority

The Department publishes this notice and request for comment in the exercise of authority delegated to the Assistant Secretary—Indian Affairs by Department Manual part 209, chapter 8.

Scott J. Davis,
Senior Advisor to the Secretary, Exercising the delegated authority of the Assistant Secretary—Indian Affairs.

[FR Doc. 2025-07853 Filed 5-5-25; 8:45 am]

BILLING CODE 4337-15-P